DEPARTMENT OF DEFENSE

Department of the Navy

Notice of Intent To Prepare a Supplemental Environmental Impact Statement for Improving Homeport Facilities for Three NIMITZ-Class Aircraft Carriers in Support of the U.S. Pacific Fleet, and To Announce Public Scoping Meetings

AGENCY: Department of the Navy (DoN), Department of Defense (DoD).

ACTION: Notice.

SUMMARY: Pursuant to the National Environmental Policy Act (NEPA) of 1969, as implemented by the Council on Environmental Quality, the Department of the Navy (DoN) announces its intent to prepare a Supplemental Environmental Impact Statement (SEIS) to update its analysis in the 1999 Final Environmental Impact Statement (FEIS) for Developing Home Port Facilities for Three Nimitz-Class Aircraft Carriers in Support of the U.S. Pacific Fleet and its 2008 Final SEIS. The new SEIS will address current mission objectives, routine pier-side maintenance activities and proposed electrical shoreside power infrastructure, which may result in three CVNs being simultaneously in port at Naval Air Station North Island (NASNI) for more intermittent, nonconsecutive days per year than analyzed in prior NEPA documents. The DON is initiating a 45-day public scoping process to receive comments on the scope of the SEIS, including identification of potential alternatives, information, and analyses relevant to the Proposed Action, identification of environmental concerns, issues the public would like to see addressed in the SEIS, and the project's potential to affect historic properties pursuant to section 106 of the National Historic Preservation Act (NHPA) of 1966.

DATES: The 45-day public scoping period begins June 9, 2023 and ends July 24, 2023. Comments must be postmarked or submitted electronically via the website no later than 11:59 p.m. PDT on July 24, 2023, for consideration in the Draft SEIS. The DoN will hold three public scoping meetings in the local area during the evenings of June 27-29, 2023. The scoping meetings will consist of informal, open house sessions with informational poster stations staffed by DoN representatives. The information presented at the public meetings will also be available on the project website. The DoN will also publish the public scoping meeting announcements in local newspapers and in press releases. Meeting announcements will also be published in local Spanish-language newspapers, and Spanish speakers will be present at the meetings.

ADDRESSES: The DoN invites all interested parties to submit scoping comments on the Improving Home Port Facilities for Three Nimitz-Class Aircraft Carriers in Support of the U.S. Pacific Fleet SEIS. Information regarding the project, the public meetings and how to submit comments is available at the DoN project website address, https://www.nepa.navy.mil/northislandCVNs. The public scoping meetings will be held at the following locations:

1. June 27, 2023, 6:30 p.m. to 9:00 p.m., Logan Memorial Educational Campus, Building K101, MPR Room, 2875 Ocean View Blvd., San Diego, CA 92113.

2. June 28, 2023, 5:00 p.m. to 7:30 p.m., Coronado Community Center, Nautilus Room, 1845 Strand Way, Coronado, CA 92118.

3. June 29, 2023, 5:00 p.m. to 7:30 p.m., Burress Auditorium, South Bay Union School District, 601 Elm Ave., Imperial Beach, CA 91932.

Comments may be received:

• In person at the public meetings,

• Electronically via the project website, https://www.nepa.navy.mil/northislandCVNs by 11:59 PDT, July 24, 2023,

• By mail, postmarked no later than July 24, 2023 to the following address: Naval Facilities Engineering Systems Command, Atlantic 6506 Hampton Blvd., Building A, Norfolk, VA 23508 ATTN: EV21, CVN SEIS Project Manager

FOR FURTHER INFORMATION CONTACT: U.S. Fleet Forces Command, 1562 Mitscher Avenue, Suite 250, Norfolk, VA 23551-2487, Attn: Mr. Theodore Brown, Installations and Environment Public Affairs Officer, 757-836-4427, or visit the project website: https://www.nepa.navy.mil/northislandCVNs.

SUPPLEMENTARY INFORMATION: U.S. Fleet Forces Command is the DoN's action proponent for the SEIS. NASNI, which is part of Naval Base Coronado, is located in Coronado approximately 1.5 kilometers (1 mile) west, and across San Diego Bay from, downtown San Diego, California. NASNI is a major port for CVNs and a key support location for the West Coast fleet. NASNI and its CVN berthings are critical to the DoN's presence and military readiness in the Pacific Ocean.

The SEIS is being prepared for the limited purpose of supplementing the 1999 FEIS, and subsequent 2008 SEIS, with current circumstances and information. The Proposed Action will address modernization of shoreside electrical infrastructure, CVN routine pier-side maintenance actions, and update the environmental effects associated with current mission objectives, which may result in three CVNs being simultaneously in port at Naval Air Station North Island (NASNI) for more intermittent, nonconsecutive days per year than analyzed in prior NEPA documents. The 1999 FEIS estimated that, once homeported, three CVNs would be in port simultaneously for an average of 13 intermittent, nonconsecutive days per year. By the time of the 2008 SEIS, that estimate had changed to an average of 29 intermittent, nonconsecutive days per year. That estimate has again changed to address current maintenance, training, and deployment requirements and a SEIS is required to update the environmental analysis based on this updated estimate. Because of the number of variables involved with predicting CVN berthing requirements, the DoN plans to analyze the impacts of an anticipated need for three CVNs to be in port simultaneously for an average of 180 intermittent, nonconsecutive days per year. Although it is considered unlikely that this 180-day scenario would ever occur, the DoN has chosen a conservative average number of intermittent, nonconsecutive days per year in order to ensure a “hard look” at the potential impacts of this ongoing project.

The purpose of the Proposed Action is to meet the DoN's mission requirement to support its West Coast fleet and to maintain military readiness of naval forces for prompt and sustained combat incident to operations at sea to meet the needs of war, now and into the future, consistent with Title 10, Section 8062, of the United States Code.

The Proposed Action is needed because (1) CVN-capable berths at NASNI do not currently have the capability to support the DoN's next generation (FORD-Class) of CVNs (2) current mission objectives (to include operational, deployment, and maintenance schedules) may result in three CVNs in port at NASNI at the same time for more intermittent, nonconsecutive days per year than previously analyzed. The presence of three CVNs may include all three NASNI-homeported CVNs or two NASNI-homeported CVNs and one transient CVN. Transient FORD-Class CVNs may berth at NASNI once deployed on the West Coast.

The DoN will evaluate the potential environmental impacts to, but not limited to, the following environmental resources: traffic; air quality; socioeconomics; and environmental justice.

The scoping process is helpful in identifying public concerns and local issues to consider during the development of the Draft SEIS. Federal, state, and local agencies; federally recognized tribes; and interested persons are encouraged to provide substantive comments to the DoN on environmental resources and issue areas of concern that the commenter believes the DoN should consider. All comments, provided in writing at the scoping meetings, submitted via the DoN website, or mailed, will be taken into consideration during the development of the Draft SEIS.

The project website https://www.nepa.navy.mil/northislandCVNs provides information on the Proposed Action, the NEPA process and project schedule. Additional opportunities for public comment will occur after the release of the Draft SEIS. The DoN intends to publish the Draft SEIS in mid-2024, publish the Final SEIS in spring 2025, and sign a Record of Decision following the 30-day Final SEIS wait period.

Dated: June 2, 2023.
A.R. Holt,
Lieutenant Commander, Judge Advocate General's Corps, U.S. Navy, Federal Register Liaison Officer.

[FR Doc. 2023-12228 Filed 6-8-23; 8:45 am]

BILLING CODE 3810-FF-P